DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Retail Trade Survey.

OMB Control Number: 0607-0013.

Form Number(s): SA-44, SA-44A, SA-44C, SA-44E, SA-44N, SA-44S, SA-45, SA-45C, SA-721A, SA-721B, SA-721E, SA-721F, SA-722A, and SA-722E.

Type of Request: Reinstatement, with change, of an expired collection.

Number of Respondents: 20,557.

Average Hours per Response: 29.3 minutes.

Burden Hours: 11,426.

Needs and Uses: The Annual Retail Trade Survey (ARTS) covers employer firms with establishments located in the United States and classified in retail trade and/or accommodation and food services sector as defined by the North American Industry Classification System (NAICS). The survey requests firms to provide annual sales, sales tax, e-commerce sales, year-end inventories held inside and outside the United States, total operating expenses, purchases, and accounts receivable. We also request, for selected industries, sales and e-commerce sales by merchandise line.

The data collected in the annual retail survey provide a current statistical picture of the retail and food services and accommodations portions of consumer activity. These data are collected to provide a sound statistical basis for the formation of policy by various government agencies, as well as to serve as a benchmark for the estimates compiled from the Monthly Retail Trade Report [OMB No. 0607-0717]. Results will be made available, at the United States summary level, for selected retail trade, accommodation and food services industries approximately fifteen months after the end of the reference year.

Every 5 years, ARTS requests data on detailed operating expenses. During the next three years, detailed operating expenses will not be collected. The last time ARTS collected detailed operating expenses was in 2013 for the 2012 survey year. The plan is to reinstate these questions in 2018 as part of the 2017 ARTS data collection. Estimates are published based on the North American Industry Classification System (NAICS), which has been widely adopted throughout both the public and private sectors.

The fourteen forms in this collection enable us to collect information on a NAICS basis and to request similar data items. Varieties of forms are needed to address the size of the firm, kind-of-business, or data items requested.

The Bureau of Economic Analysis (BEA) uses the data to estimate the change in private inventories component of gross domestic product (GDP) and output in both the benchmark and annual input-output (I-O) accounts and GDP by industry. Data on sales taxes are also used to prepare estimates of GDP by industry and to derive industry output for the I-O accounts. Data on detailed operating expenses, are collected on this survey quinquennially and used to produce national estimates of value added, gross output, and intermediate inputs and serve as a benchmark for the annual industry accounts, which provide the control totals for the GDP-by-state accounts.

The Bureau of Labor Statistics uses the data as input to its Producer Price Indexes and in developing productivity measurements. The Federal Reserve Board uses the accounts receivables balances to measure consumer credit. Private businesses use the estimates in computing business activity indexes.

Other government agencies and businesses use the data to satisfy a variety of public and business needs such as economic market analysis, company performance, and forecasting future demands.

The use of the Census Bureau's online reporting system, Centurion, allows respondents to report data, at their convenience, via the Internet. The system is designed to be secure and flexible for users. It allows respondents to complete and file in one session or to save and return over any number of sessions. The site also allows respondents to print copies of their completed form(s) for their records. The use of Internet reporting has proven popular, and has become a preferred method of filing reports by respondents.

In an effort to move the ARTS towards a paperless collection strategy, we undertook an “Internet push” initiative beginning with the 2013 survey year (mailed in February 2014) in which our initial mailing contained a letter and flyer that provided instructions on how to report data and receive help online, and did not include a paper questionnaire. This strategy aims to eliminate paper forms in the initial and follow-up mailings, and attempts to encourage respondents to report online.

Affected Public: Business or other for-profit.

Frequency: Annually.

Respondent's Obligation: Mandatory.

Legal Authority: Title 13, United States Code, Section 182, 224, and 225.

This information collection request may be viewed at www.reginfo.gov. Follow the instructions to view Department of Commerce collections currently under review by OMB.

Written comments and recommendations for the proposed information collection should be sent within 30 days of publication of this notice to OIRA_Submission@omb.eop.gov or fax to (202)395-5806.

Dated: January 27, 2015.
Glenna Mickelson,
Management Analyst, Office of the Chief Information Officer.

[FR Doc. 2015-01827 Filed 1-30-15; 8:45 am]

BILLING CODE 3510-07-P